DEPARTMENT OF COMMERCE

National Oceanic and Atmospheric Administration

[I.D. 082500B]

Gulf of Mexico Fishery Management Council; Public Meetings

AGENCY: National Marine Fisheries Service (NMFS), National Oceanic and Atmospheric Administration (NOAA), Commerce.

ACTION: Notice of public meeting.

SUMMARY: The Gulf of Mexico Fishery Management Council will convene a public meeting of the Socioeconomic Panel (SEP).

DATES: The meeting will be held on Wednesday, September 20, 2000, beginning at 1 p.m. through Friday, September 22, 2000, concluding at 4 p.m.

ADDRESSES:

The meeting will be held at the Tampa Airport Hilton Hotel, 2225 Lois Avenue, Tampa, Florida 33607; telephone 813-877-6688.

Council address: Gulf of Mexico Fishery Management Council, 3018 U.S. Highway 301 North, Suite 1000 Tampa, FL 33619.

FOR FURTHER INFORMATION CONTACT: Antonio B. Lamberte, Economist, Gulf of Mexico Fishery Management Council, 3018 U.S. Highway 301 North, Suite 1000, Tampa, Florida 33619; telephone: 813-228-2815.

SUPPLEMENTARY INFORMATION: The SEP will convene to review available social and economic data on red snapper, red grouper, vermilion snapper, and greater amberjack, and to determine the social and economic implications of the levels of acceptable biological catches that may be recommended by the Council’s Reef Fish Stock Assessment Panel. The SEP may recommend to the Council a total allowable catch each for greater amberjack, red grouper, and vermilion snapper for the 2001 fishing year.

Composing the SEP membership are economists, sociologists, and anthropologists from various universities and state fishery agencies throughout the Gulf. They advise the Council on the social and economic implications of certain fishery management measures.

A copy of the agenda can be obtained by calling 813-228-2815. Although other non-emergency issues not on the agendas may come before the SEP for discussion, in accordance with the Magnuson-Stevens Fishery Conservation and Management Act, those issues may not be the subject of formal action during these meetings. Actions of the SEP will be restricted to those issues specifically identified in the agendas and any issues arising after publication of this notice that require emergency action under Section 305(c) of the Magnuson-Stevens Fishery Conservation and Management Act, provided the public has been notified of the Council's intent to take action to address the emergency.

Special Accommodations

This meeting is physically accessible to people with disabilities. Requests for sign language interpretation or other auxiliary aids should be directed to the Council office (see ADDRESSES) by September 13, 2000.

Dated: August 25, 2000.
Bruce C. Morehead,
Acting Director, Office of Sustainable Fisheries, National Marine Fisheries Service.

[FR Doc. 00-22322 Filed 8-30-00; 8:45 am]

Billing Code: 3510-22-S